DEPARTMENT OF AGRICULTURE

Office of the Secretary

Notice of the Specialty Crop Committee's Stakeholder Listening Session

AGENCY: Research, Education, and Economics, USDA.

ACTION: Notice of stakeholder listening session.

SUMMARY: In accordance with the Federal Advisory Committee Act, 5 U.S.C. App 2, the United States Department of Agriculture announces a stakeholder listening session of the Specialty Crop Committee, under the auspices of the National Agricultural Research, Extension, Education, and Economics Advisory Board (NAREEE).

DATES: The Specialty Crop Committee will hold the stakeholder listening session on June 9, 2010 from 9 a.m.-3 p.m.

ADDRESSES: The stakeholder listening session of the Specialty Crop Committee will take place at the Le Rivage Hotel, 4800 Riverside Boulevard, Sacramento, California 95822.

The public may file written comments before or up to two weeks after the listening session with the contact person identified in this notice at: The National Agricultural Research, Extension, Education, and Economics Advisory Board Office, U.S. Department of Agriculture, Room 344-A, Jamie L. Whitten Building, 1400 Independence Avenue, SW., Washington, DC 20250-2255.

FOR FURTHER INFORMATION CONTACT: David Kelly, Acting Executive Director, National Agricultural Research, Extension, Education, and Economics Advisory Board; telephone: (202) 720-4421; fax: (202) 720-6199; or e-mail: David.kelly@ars.usda.gov.

SUPPLEMENTARY INFORMATION: The Specialty Crop Committee was established in accordance with the Specialty Crops Competitiveness Act of 2004 under Title III, Section 303 of Public Law 108-465, as amended under the Food, Conservation, and Energy Act of 2008, under Title VII, Section 7103 of Public Law 110-246. This Committee is a permanent committee of the National Agricultural Research Extension, Education, and Economics Advisory Board. The Committee's charge is to study the scope and effectiveness of research, extension, and economics programs affecting the specialty crop industry. The congressional legislation defines “specialty crops” as fruits, vegetables, tree nuts, dried fruits and nursery crops (including floriculture). In order to carry out its responsibilities effectively, the Committee is holding a stakeholder listening session. The listening session will elicit stakeholder input from industry and state representatives, researchers and educators, national organizations and institutions, local producers, and other groups about topics of relevance to research, extension or economics programs on which the Specialty Crop Committee is charged to report through the Board to the Secretary of Agriculture and Congress. The list of specific topics of interest is available on the Committee charge on the NAREEE Web site (http://nareeeab.ree.usda.gov). In addition, the Committee seeks input on the Specialty Crop Research Initiative priorities and program administration, as well as its interaction with any research undertaken by the state administered Specialty Crop Block Grant Program funded through the USDA. Several panel sessions will be organized to stimulate discussion, each relating to one or more specific issues delineated in the Committee's charge. Each panel will be followed with questions by Committee members and opportunity for brief presentations and general discussion from the floor. An open session for further brief presentations will be also be scheduled. Succinct written comments by attendees and other interested stakeholders will be welcomed as additional public input before and up to two weeks following the listening sessions. All statements will become part of the official public record of the Board's Specialty Crop Committee.

In order to encourage input from a wide array of interested parties and stakeholders from diverse regions of the country, the Committee will host an additional listening session focused on the same topics. This session will be held in Sacramento, CA on June 10, 2010. Details regarding this meeting will be announced in the near future.

Done at Washington, DC, June 2, 2010.
Ann M. Bartuska,
Acting Under Secretary, Research, Education, and Economics.

[FR Doc. 2010-13798 Filed 6-8-10; 8:45 am]

BILLING CODE 3410-03-P